DEPARTMENT OF THE INTERIOR

Bureau of Land Management

43 CFR Part 3160

[WO-300-L13100000.FJ0000]

RIN 1004-AE26

Oil and Gas; Hydraulic Fracturing on Federal and Indian Lands

AGENCY: Bureau of Land Management, Interior.

ACTION: Supplemental notice of proposed rulemaking; extension of comment period.

SUMMARY: On May 11, 2012, the Bureau of Land Management (BLM) published in the Federal Register a proposed rule to regulate hydraulic fracturing on Federal and Indian land. Due to the complexity of the rule and the issues surrounding it, the BLM extended the comment period for 60 days beyond the end of the initial comment period. On May 24, 2013, the BLM published a supplemental notice of proposed rulemaking and request for comment. Key issues in the revised proposed rule include: the use of an expanded set of cement evaluation tools to help ensure that usable water zones have been isolated and protected from contamination and more detailed guidance on how trade secrets claims will be handled. The revised proposed rule would also provide opportunities for the BLM to coordinate standards and processes with individual States and tribes to reduce administrative costs and improve efficiency. This notice extends the public comment period on the revised proposed rule for 60 days beyond the initial comment period.

DATES: The comment period for the proposed rule published May 24, 2013 (78 FR 31636), is extended. Send your comments on this proposed rule to the BLM on or before August 23, 2013. The BLM need not consider, or include in the administrative record for the final rule, comments that the BLM receives after the close of the comment period or comments delivered to an address other than those listed below (see ADDRESSES).

ADDRESSES: Mail: U.S. Department of the Interior, Director (630), Bureau of Land Management, Mail Stop 2134 LM, 1849 C St. NW., Washington, DC 20240, Attention: 1004-AE26. Personal or messenger delivery: Bureau of Land Management, 20 M Street, SE., Room 2134 LM, Attention: Regulatory Affairs, Washington, DC 20003. Federal eRulemaking Portal: http://www.regulations.gov. Follow the instructions at this Web site.

FOR FURTHER INFORMATION CONTACT: Steven Wells, Division Chief, Fluid Minerals Division, 202-912-7143, for information regarding the substance of the rule or information about the BLM's Fluid Minerals Program. Persons who use a telecommunications device for the deaf (TDD) may call the Federal Information Relay Service (FIRS) at 1-800-877-8339 to contact the above individual during normal business hours. FIRS is available 24 hours a day, 7 days a week to leave a message or question with the above individual. You will receive a reply during normal business hours.

SUPPLEMENTARY INFORMATION:

Public Comment Procedures

If you wish to comment, you may submit your comments by any one of several methods: Mail: You may mail comments to U.S. Department of the Interior, Director (630), Bureau of Land Management, Mail Stop 2134LM, 1849 C Street, NW., Washington, DC 20240, Attention: 1004-AE26. Personal or messenger delivery: Bureau of Land Management, 20 M Street, SE., Room 2134 LM, Attention: Regulatory Affairs, Washington, DC 20003. Federal eRulemaking Portal: http://www.regulations.gov. Follow the instructions at this Web site.

Please make your comments as specific as possible by confining them to issues directly related to the content of the revised proposed rule, and explain the basis for your comments. The comments and recommendations that will be most useful and likely to influence agency decisions are:

1. Those supported by quantitative information or studies; and

2. Those that include citations to, and analyses of, the applicable laws and regulations.

The BLM is not obligated to consider or include in the Administrative Record for the rule comments received after the close of the comment period (see DATES) or comments delivered to an address other than those listed above (see ADDRESSES).

Comments, including names and street addresses of respondents, will be available for public review at the address listed under ADDRESSES during regular hours (7:45 a.m. to 4:15 p.m.), Monday through Friday, except holidays.

Before including your address, telephone number, email address, or other personal identifying information in your comment, be advised that your entire comment—including your personal identifying information—may be made publicly available at any time. While you can ask in your comment to withhold from public review your personal identifying information, we cannot guarantee that we will be able to do so.

Background

The revised proposed rule was published on May 24, 2013 (78 FR 31636), with a 30-day comment period closing on June 24, 2013. Since publication, the BLM has received numerous requests for extension of the comment period on the revised proposed rule. Because of the complexity of the rule and due to the controversial nature of well stimulation procedures, the BLM is hereby extending the comment period on the rule for 60 days. The closing date of the extended comment period is August 23, 2013.

Dated: June 5, 2013.
Tommy P. Beaudreau,
Acting Assistant Secretary, Land and Minerals Management.

[FR Doc. 2013-13708 Filed 6-7-13; 8:45 am]

BILLING CODE 4310-84-P